DEPARTMENT OF THE INTERIOR

Bureau of Land Management

[NV-030-01-1220-PD]

Supplementary Rules for the Silver Saddle Ranch and the Ambrose Carson River Natural Area; Carson City, Nevada

AGENCY: Bureau of Land Management, Interior.

ACTION: Supplementary rules.

SUMMARY: The Carson City Field Manager establishes these Supplementary Rules in support of the Interdisciplinary Management Plan for the Silver Saddle Ranch and the Ambrose Carson River Natural Area. In 1997, the Bureau of Land Management (BLM) completed a land exchange resulting in the transfer of the Silver Saddle Ranch (SSR) in Carson City from private to public ownership. The ranch includes residential buildings, barns, fences, meadow lands, and sensitive riparian areas along the Carson River. In cooperation with the municipality of Carson City, BLM has developed a long-term management plan. This plan will provide for adequate on-site management and protection of these features, as well as for recreational use of the area by the public. The management plan addresses both the Silver Saddle Ranch and the Ambrose Carson River Natural Area (ACRNA). The ACRNA is managed by the BLM in partnership with Carson City through the Carson City Parks and Recreation Department to provide recreational access to the Carson River. The ACRNA is located on the east side of Carson River approximately one and a quarter miles north of SSR. The plan also focuses on meshing existing and future management plans for the Prison Hill Recreation Area, Pine Nut Mountains and other public lands adjacent to the river corridor in Eagle Valley. The plan is consistent with provisions of other City plans, including the Carson River Master Plan, Carson River Park Master Plan, Bicycle System Plan, and the Eagle Valley Trails System Plan.

These supplementary rules were reviewed by the public in June, 2000, during the comment period for the final Management Plan for the ACRNA and SSR.

ADDRESSES: Mail: Field Office Manager, Carson City Field Office, 5665 Morgan Mill Road, Carson City, Nevada 89701.

Personal or messenger delivery: 5665 Morgan Mill Road, Carson City, Nevada 89701.

Internet e-mail: www.nv.blm.gov/carson/default.htm.

FOR FURTHER INFORMATION CONTACT: Chris Miller, Outdoor Recreation Planner, or Richard Conrad, Assistant Manager, Non-Renewable Resources, Carson City Field Office, 5665 Morgan Mill Road, Carson City, Nevada 89701. Telephone (775) 885-6000. Persons who use a telecommunications device for the deaf (TDD) may call the Federal Information Relay Service (FIRS) at 1-800-877-8339, 24 hours a day, 7 days a week.

SUPPLEMENTARY INFORMATION:

I. Lands covered by the supplementary rules

The public lands affected by these restrictions are described as follows:

Mt. Diablo Meridian

T. 15 N., R 20 E.,

Sec. 11: SE¼

Sec. 14: E½

Excepting therefrom those public lands within these sections that lie east of Deer run Road.

Sec. 22: SE¼SE¼

Sec. 26: SW¼NE1/4, W1/2, W½SE¼;

Sec. 27: NE¼,NE¼SE¼;

Sec. 35: NW¼NE¼

Excepting therefrom that portion of the NE¼NE¼NW¼ of Section 26 as conveyed to Carson City, and all that portion lying below the natural, ordinary high water line of the Carson River.

II. Procedural Matters

Executive Order 12866, Regulatory Planning and Review

These supplementary rules are not a significant regulatory action and are not subject to review by Office of Management and Budget under Executive Order 12866. These supplementary rules will not have an effect of $100 million or more on the economy. They are not intended to affect commercial activity, but contain rules of conduct for public use of certain recreational areas. They will not adversely affect, in a material way, the economy, productivity, competition, jobs, the environment, public health or safety, or State, local, or tribal governments or communities. These proposed supplementary rules will not create a serious inconsistency or otherwise interfere with an action taken or planned by another agency. The supplementary rules do not alter the budgetary effects of entitlements, grants, user fees, or loan programs or the right or obligations of their recipients; nor do they raise novel legal or policy issues.

Clarity of the Supplementary Rules

Executive Order 12866 requires each agency to write regulations that are simple and easy to understand. We invite your comments on how to make these proposed supplementary rules easier to understand, including answers to questions such as the following:

(1) Are the requirements in the proposed supplementary rules clearly stated?

(2) Do the proposed supplementary rules contain technical language or jargon that interferes with their clarity?

(3) Does the format of the proposed supplementary rules (grouping and order of sections, use of headings, paragraphing, etc.) aid or reduce their clarity?

(4) Would the supplementary rules be easier to understand if they were divided into more (but shorter) sections?

(5) Is the description of the proposed supplementary rules in the SUPPLEMENTARY INFORMATION section of this preamble helpful in understanding the proposed supplementary rules? How could this description be more helpful in making the supplementary rules easier to understanding?

Please send any comments you have on the clarity of the supplementary rules to the address specified in the ADDRESSES section.

National Environmental Policy Act

BLM has prepared an environmental assessment (EA) and has found that the proposed supplementary rules would not constitute a major Federal action significantly affecting the quality of the human environment under section 102(2)(C) of the Environmental Protection Act of 1969 (NEPA), 42 U.S.C. 4332(2)(C). The supplementary rules merely contain rules of conduct for certain recreational lands in Nevada. These rules are designed to protect the environment and the public health and safety. A detailed statement under NEPA is not required. BLM has placed the EA and the Finding of No Significant Impact (FONSI) on file in the BLM Administrative Record at the address specified in the ADDRESSES section. BLM invites the public to review these documents and suggests that anyone wishing to submit comments in response to the EA and FONSI do so in accordance with the “Public comment procedure” section above.

Regulatory Flexibility Act

Congress enacted the Regulatory Flexibility Act of 1980, as amended, 5 U.S.C. 601-612, to ensure that Government regulations do not unnecessarily or disproportionately burden small entities. The RFA requires a regulatory flexibility analysis if a rule would have a significant economic impact, either detrimental or beneficial, on a substantial number of small entities. The supplementary rules do not pertain specifically to commercial or governmental entities of any size, but to public recreational use of specific public lands. Therefore, BLM has determined under the RFA that these proposed supplementary rules would not have a significant economic impact on a substantial number of small entities.

Small Business Regulatory Enforcement Fairness Act (SBREFA)

These supplementary rules do not constitute a “major rule” as defined at 5 U.S.C. 804(2). Again, the supplementary rules merely contain rules of conduct for recreational use of certain public lands. The supplementary rules have no effect on business—commercial or industrial—use of the public lands.

Unfunded Mandates Reform Act

These supplementary rules do not impose an unfunded mandate on State, local, or tribal governments or the private sector of more than $100 million per year; nor do these proposed supplementary rules have a significant or unique effect on State, local, or tribal governments or the private sector. The supplementary rules do not require anything of State, local, or tribal governments. Therefore, BLM is not required to prepare a statement containing the information required by the Unfunded Mandates Reform Act (2 U.S.C. 1531 et seq.)

Executive Order 12630, Governmental Actions and Interference with Constitutionally Protected Property Rights (Takings)

The supplementary rules do not represent a government action capable of interfering with constitutionally protected property rights. The supplementary rules do not address property rights in any form, and do not cause the impairment of anyone's property rights. Therefore, the Department of the Interior has determined that the supplementary rules would not cause a taking of private property or require further discussion of takings implications under this Executive Order.

Executive Order 13132, Federalism

The supplementary rules will not have a substantial direct effect on the States, on the relationship between the national government and the States, or on the distribution of power and responsibilities among the various levels of government. The supplementary rules affect land in only one State, Nevada, and do not address jurisdictional issues involving the State government. Therefore, in accordance with Executive Order 13132, BLM has determined that these proposed supplementary rules do not have sufficient Federalism implications to warrant preparation of a Federalism assessment.

Executive Order 12988, Civil Justice Reform

Under Executive Order 12988, the Office of the Solicitor has determined that these proposed supplementary rules would not unduly burden the judicial system and that they meet the requirements of sections 3(a) and 3(b)(2) of the Order.

Paperwork Reduction Act

These proposed supplementary rules do not contain information collection requirements that the Office of Management and Budget must approve under the Paperwork Reduction Act, 44 U.S.C. 3501 et seq.

Author

The principal author of these supplementary rules is Chris Miller of the Carson City Field Office, Bureau of Land Management, Department of the Interior.

Under the authority of 43 CFR chapter II, part 8360, sections 8364.1, 8365, 8365.1-2, and 8365.1-6, the Nevada State Director proposes supplemental rules applicable to these areas, to read as follows:

Supplementary Rules for the Silver Saddle Ranch and the Ambrose Carson River Natural Area

Sec. 1 Motor vehicle rules

a. You may use motorized vehicles only in parking areas and on designated routes of travel.

b. Motorized vehicles must be equipped with an approved spark arrester, as required and specified by 43 CFR 8343.1(c)

Sec. 2 Closed and limited use areas.

a. You may enter the area of the Silver Saddle Ranch (SSR) west of the Carson River only between the posted hours of sunrise to sunset, except during special events permitted by the BLM. This restriction also applies to SSR lands east of the Carson River and the Ambrose Carson River Natural Area (ACRNA) which are open sunrise to sunset.

b. Except during BLM guided or permitted activities, along the river corridor a three quarter (¾) mile long portion of riparian area west of the banks of the Carson River at the Silver Saddle Ranch, south of the Carson River Park and north of the Mexican Ditch trail, is closed to public use in order to protect both wildlife and riparian vegetation.

c. All agricultural fields are closed to the public while in farming/grazing operational use.

Sec. 3 Other restrictions on recreation use.

a. You may ride bicycles, or horses only on designated trails.

b. West of the Carson River, on the Silver Saddle Ranch, you must keep your dog on a leash at all time.

c. You must remove and properly dispose of any manure created by your pets.

d. To fish, you must possess a valid State of Nevada fishing license.

Sec. 4 Prohibited acts.

You must not:

a. Drive a motorized vehicle except in parking areas in designated routes of travel;

b. Drive a motorized vehicle not equipped with an approved spark arrester;

c. Enter areas that are closed under Sec. 2 of these supplementary rules;

d. Camp at the ACRNA or at the SSR without a permit from BLM-.

e. Discharge any firearms, fireworks, or projectiles.

f. Start or use a campfire without specific BLM authorization. You may use portable stoves using gas, kerosene, jellied petroleum, or pressurized liquid fuel. Until such time as BLM installs permanent fire rings, grates, and/or other appropriate facilities, charcoal fires are allowed only if you first obtain a BLM permit.

g. Ride bicycles or horses except on designated trails;

h. Allow dogs and other pets to run unrestricted in areas specified in Sec. 3b of these supplementary rules;

i. Fail to remove manure deposited by your pet.

Sec. 5 Penalties.

Under the Federal Land Policy and Management Act of 1976 (43 U.S.C. 1733(a)), any person failing to comply with the supplemental rules provided in the notice, may be subject to imprisonment for not more than 12 months, or a fine in accordance with the applicable provisions of 18 U.S.C. 3571, other penalties in accordance with 43 U.S.C. 1733 or both.

Sec. 6 Administrative and emergency use.

These supplementary rules do not apply to emergency or law enforcement personnel, or BLM employees engaged in the performance of their official duties.

Dated: November 3, 2000.
Jean Rivers-Council,
Associate State Director, Nevada.

[FR Doc. 00-29602 Filed 11-17-00; 8:45 am]

BILLING CODE 4310-HC-M